DEPARTMENT OF THE TREASURY

Federal Retirement Thrift Investment Board

Sunshine Act Meeting

Time and Date: 9 a.m. (EST) January 21, 2003.

Place: 4th Floor, Conference Room, 1250 H Street, NW., Washington, DC.

Status: Parts will be open to the public and parts closed to the public.

Matters To Be Considered:

Parts Open to the Public

1. Approval of the minutes of the December 16, 2002, Board member meeting.

2. Executive Director's report, including the following items:

• Legislative report,

• Investment report, and

• Participation information.

3. Status of new record keeping system.

4. Discussion with Ann Combs, Assistant Secretary of Labor, Pension and Welfare Benefits Administration.

Parts Closed to the Public

5. Discussion of litigation matters (closed portion of meeting).

6. Discussion of personnel matters (closed portion of meeting).

Contact Person for More Information: Thomas J. Trabucco, Director, Office of External Affairs, (202) 942-1640.

Dated: January 7, 2003.
Elizabeth S. Woodruff,
Secretary to the Board, Federal Retirement Thrift Investment Board.

[FR Doc. 03-601 Filed 1-8-03; 11:54 am]

BILLING CODE 6760-01-M